DEPARTMENT OF ENERGY

Solicitation Number DE-PS07-02ID14305 Early Site Permit License Demonstration Project

AGENCY: Idaho Operations Office, Department of Energy.

ACTION: Notice of availability.

SUMMARY: The U.S. Department of Energy is seeking proposals from U.S. power generating companies to conduct a regulatory demonstration project for Early Site Permit (ESP) applications to the Nuclear Regulatory Commission (NRC) in accordance with 10 CFR part 52. The project objective is to implement the technical and regulatory required activities to demonstrate the ESP licensing process for a selected site(s) including ESP application development and submittal to and approval by the NRC.

DATES: The deadline for receipt of applications is 4:00 p.m. EST on April 15, 2002.

ADDRESSES: The formal solicitation document will be disseminated electronically as Solicitation Number DE-PS07-02ID14305, Early Site Permit License Demonstration Project, through the Industry Interactive Procurement System (IIPS) located at the following URL: http://e-center.doe.gov. IIPS provides the medium for disseminating solicitations, receiving financial assistance applications and evaluating the applications in a paperless environment. Completed applications are required to be submitted via IIPS. Individuals who have the authority to enter their company into a legally binding contract/agreement and intend to submit proposals/applications via the IIPS system must register and receive confirmation that they are registered prior to being able to submit an application on the IIPS system. An IIPS “User Guide for Contractors” can be obtained by going to the IIPS Homepage at the following URL: http://e-center.doe.gov and then clicking on the “Help” button. Questions regarding the operation of IIPS may be e-mailed to the IIPS Help Desk at helpdesk@pr.doe.gov or call the help desk at (800) 683-0751.

FOR FURTHER INFORMATION CONTACT: Carol Van Lente, Contract Specialist, at vanlencl@id.doe.gov.

SUPPLEMENTARY INFORMATION: The authorizing statutes for this program are: Atomic Energy Act of 1954 (42 U.S.C. 2011 et seq.), as amended and Public Law 95-91, Department of Energy Organization Act of 1977. DOE anticipates making one or more cooperative agreement awards. Approximately $3,000,000 in federal funds is expected to be available in FY 2002 to initiate the demonstration project(s). The project performance period for the demonstration of the ESP process is anticipated to be no more than forty-eight months.

Issued in Idaho Falls on February 26, 2002.
Cheryl A. Thompson,
Acting Director, Procurement Services Division.

[FR Doc. 02-5304 Filed 3-5-02; 8:45 am]

BILLING CODE 6450-01-P